DEPARTMENT OF LABOR

Employment and Training Administration

[TA-W-54,440]

Medsource Technologies, Newton, MA; Notice of Termination of Investigation

Pursuant to section 221 of the Trade Act of 1974, as amended, an investigation was initiated on March 8, 2004 in response to a petition filed by a company official on behalf of workers at Medsource Technologies, Newton, Massachusetts.

The petitioner has requested that the petition be withdrawn. Consequently, the investigation has been terminated.

Signed at Washington, DC, this 15th day of March, 2004.
Linda G. Poole,
Certifying Officer, Division of Trade Adjustment Assistance.

[FR Doc. 04-7576 Filed 4-2-04; 8:45 am]

BILLING CODE 4510-30-P